DEPARTMENT OF HEALTH AND HUMAN SERVICES

Health Resources and Services Administration

Agency Information Collection Activities: Submission to OMB for Review and Approval; Public Comment Request; Information Collection Request Title: Bureau of Health Workforce Substance Use Disorder Evaluation, OMB No. 0906-xxxx-NEW

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this Notice has closed.

DATES: Comments on this ICR should be received no later than June 1, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request a copy of the clearance requests submitted to OMB for review, email Lisa Wright-Solomon, the HRSA Information Collection Clearance Officer at paperwork@hrsa.gov or call (301) 443-1984.

SUPPLEMENTARY INFORMATION: Information Collection Request Title: Bureau of Health Workforce Substance Use Disorder (SUD) Evaluation, OMB No. 0906-xxxx-New.

Abstract: In September 2017, HRSA's Bureau of Health Workforce launched a multi-part effort to increase the workforce capacity of the U.S. health care system to prevent and treat the opioid crisis. As a part of this effort, HRSA developed or expanded activities under five programs to help combat the crisis: (1) The National Health Service Corps (NHSC) Loan Repayment Program offers loan repayment to providers focused on Substance Use Disorder treatment (NHSC SUD Workforce Loan Repayment Program (LRP)); (2) the National Health Service Corps Rural Communities Loan Repayment Program (NHSC Rural Communities LRP); (3) the Opioid Workforce Expansion Program (OWEP); (4) the Behavioral Health Workforce Education and Training Program (BHWET); and (5) the Graduate Psychology Education (GPE) Program. These programs provide either loan repayment to providers (NHSC SUD Workforce LRP, NHSC Rural Communities LRP), or funding for training programs for behavioral health professionals and paraprofessionals to increase integrated behavioral health into primary care treatment and interprofessional team-based care to high-need areas (OWEP, BHWET, GPE).

The purpose of the planned evaluation is to assess these programs with respect to their stated goals of increasing access to the number of clinicians delivering evidence-based SUD treatment, enhancing education and training in substance use prevention and treatment for current and future health care professionals and paraprofessionals in rural and underserved communities, and integrating behavioral health into primary care to improve the capacity of the health care delivery system to provide SUD prevention and treatment services.

The evaluation will include data collection through web-based surveys to trainees, recipients of loan repayments, grantee organizations, and training sites participating in HRSA's SUD prevention and treatment programs. At the trainee/participant level, questions will focus on educational and professional background; motivation and incentives to join or leave the program; training experiences; perceived readiness to deliver SUD treatment services (where applicable); capacity to engage in prevention strategies; and post-graduation employment (where applicable). At the recipient grantee organization level (note: This level is not relevant to the NHSC programs), questions will focus on recruitment and retention of students, how their SUD prevention and treatment training program curriculum was developed, as applicable, collaboration with SUD prevention and treatment training sites, plans for sustainability of SUD prevention and treatment activities, as well as any other benefits that resulted from the program. At the site level, questions will focus on SUD prevention and treatment training such as addressing motivation for the site to participate, whether and what type of integrated care delivery is available, and other organizational factors of the site. At all three levels, and for all programs, we will collect survey SUD prevention and treatment training data on satisfaction with the program and recommendations for improving it.

In total, six survey instruments will be used in this evaluation: (1) NHSC SUD Workforce Loan Repayment Program/NHSC Rural Communities Loan Repayment Program/NHSC Loan Repayment Program—Participant Survey; (2) NHSC Loan Repayment Program— Site Survey; (3) Grantee Training and Educational Programs—Trainee Survey; (4) Grantee Training and Educational Programs—Alumni Survey; (5) Grantee Training and Educational Programs—Site Survey; and (6) Grantee Training and Educational Programs—Grantee Organization Survey. As part of a comprehensive questionnaire design process, questions will be limited and refined to collect information not available through secondary sources. Any data collected will not be duplicative of that collected under progress reports or other HRSA grant monitoring. NHSC site and participant survey questions will be drawn from prior NHSC Satisfaction Surveys, which were fielded in 2017 and 2018 but were discontinued. Skip patterns will allow respondents to answer only relevant questions for each of their programs. Participation in all surveys is voluntary, and all surveys will be fielded annually for three years beginning in 2020 and concluding at the end of 2022 to include each annual cohort of trainees and participants. Each trainee, participant, or site will complete their respective surveys one time.

A 60-day notice published in the Federal Register on January 24, 2020, vol. 85, No. 16; pp. 4327-29. There were no public comments.

Need and Proposed Use of the Information: The purpose of this effort is to evaluate HRSA's SUD prevention and treatment expansion program investments with respect to the following objectives:

• Objective 1: What is the impact of the NHSC SUD Workforce LRP and the NHSC Rural Communities LRP on the provision of SUD services in underserved areas compared to those who participate in the non-SUD NHSC LRP?

• Objective 2: How are the activities in the BHWET, GPE, and OWEP programs contributing to the expansion of service delivery for SUD prevention and treatment, at the individual, educational, and service-delivery system levels?

• Objective 3: To what extent are HRSA's programs successful at increasing access to treatment for SUD, including opioid treatment services?

The survey data will be critical to understanding the factors related to the success of current HRSA programs, and assist in the development of future programs and ongoing SUD prevention and treatment workforce policy development.

Likely Respondents: Data will be collected from trainees, grantee organizations, and sites participating in HRSA's SUD prevention and treatment expansion programs as described below.

NHSC SUD Workforce Loan Repayment Program/NHSC Rural Communities LRP/NHSC LRP—Participants Survey: All NHSC SUD Workforce LRP participants, NHSC Rural Communities LRP participants, and NHSC traditional LRP participants who have served at an NHSC site for at least nine months will be invited to respond. Respondents will also include those whom have exited a program early to understand reasons for termination.

NHSC Loan Repayment Program—Site Survey: All sites that were approved to receive NHSC resources, regardless if they currently have a participant on staff will be invited to respond.

Grantee Training and Educational Programs—Trainee Survey: All individuals identified by a grantee as currently receiving training as part of one of the grantee training and educational programs will be invited to respond. Respondents will also include those who have exited a program early, to understand reasons for termination.

Grantee Training and Educational Programs—Alumni Survey: All individuals who completed the Grantee Training and Educational Program Trainee Survey but had not completed their training at the time of the trainee survey, will be invited to respond to this short survey which will ask about employment since graduation.

Grantee Training and Educational Programs—Site Survey: All sites that were approved to receive BHWET, OWEP, or GPE trainees, regardless of whether they currently have trainees, will be invited to respond.

Grantee Training and Educational Programs—Grantee Organization Survey: All grantee organizations that received awards in fiscal year (FY) 2018 for the BHWET program, and received FY 2019 awards for the GPE and OWEP programs will be invited to respond.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
NHSC Loan Repayment Programs- Participant Survey | 8,000 | 1 | 8,000 | 0.33 | 2,640
NHSC Loan Repayment Programs- Site Survey | 18,000 | 1 | 18,000 | 0.33 | 5,940
Grantee Programs- Trainee Survey | 8,000 | 1 | 8,000 | 0.33 | 2,640
Grantee Programs- Alumni Survey | 2,000 | 1 | 2,000 | 0.16 | 320
Grantee Programs- Site Survey | 5,000 | 1 | 5,000 | 0.33 | 1,650
Grantee Programs- Grantee Organization Survey | 300 | 1 | 300 | 0.33 | 99
Total | 41,300 |  | 41,300 |  | 13,289

Maria G. Button,
Director, Executive Secretariat.

[FR Doc. 2020-09254 Filed 4-30-20; 8:45 am]

BILLING CODE 4165-15-P